DEPARTMENT OF THE TREASURY

Internal Revenue Service

Art Advisory Panel—Notice of Availability of Report of 2018 Closed Meetings

AGENCY: Internal Revenue Service, Treasury.

ACTION: Notice.

SUMMARY: Pursuant to the Federal Advisory Committee Act, and the Government in the Sunshine Act, a report summarizing the closed meeting activities of the Art Advisory Panel during Fiscal Year 2018 has been prepared. A copy of this report has been filed with the Assistant Secretary for Management of the Department of the Treasury.

DATES: Applicable Date: This notice is effective January 21, 2020.

ADDRESSES: The report is available at https://www.irs.gov/compliance/appeals/art-appraisal-services.

FOR FURTHER INFORMATION CONTACT: Maricarmen R. Cuello, AP:SO:AAS, Internal Revenue Service/Independent Office of Appeals, 51 SW 1st Avenue, Room 1014, Miami, FL 33130, Telephone number (305) 982-5364 (not a toll free number).

SUPPLEMENTARY INFORMATION: It has been determined that this document is not a major rule as defined in Executive Order 12291 and that a regulatory impact analysis is, therefore, not required. Additionally, this document does not constitute a rule subject to the Regulatory Flexibility Act (5 U.S.C. Chapter 6).

Andrew J. Keyso,
Acting Chief, Independent Office of Appeals.

[FR Doc. 2020-00883 Filed 1-17-20; 8:45 am]

BILLING CODE 4830-01-P